DEPARTMENT OF THE INTERIOR

Bureau of Reclamation

[RR83550000, 145R5065C6, RX.59389832.1009676]

Quarterly Status Report of Water Service, Repayment, and Other Water-Related Contract Actions

AGENCY: Bureau of Reclamation, Interior.

ACTION: Notice.

SUMMARY: Notice is hereby given of contractual actions that have been proposed to the Bureau of Reclamation (Reclamation) and are new, discontinued, or completed since the last publication of this notice. This notice is one of a variety of means used to inform the public about proposed contractual actions for capital recovery and management of project resources and facilities consistent with section 9(f) of the Reclamation Project Act of 1939. Additional announcements of individual contract actions may be published in the Federal Register and in newspapers of general circulation in the areas determined by Reclamation to be affected by the proposed action.

ADDRESSES: The identity of the approving officer and other information pertaining to a specific contract proposal may be obtained by calling or writing the appropriate regional office at the address and telephone number given for each region in the SUPPLEMENTARY INFORMATION section.

FOR FURTHER INFORMATION CONTACT: Michelle Kelly, Reclamation Law Administration Division, Bureau of Reclamation, P.O. Box 25007, Denver, Colorado 80225-0007; telephone 303-445-2888.

SUPPLEMENTARY INFORMATION: Consistent with section 9(f) of the Reclamation Project Act of 1939, and the rules and regulations published in 52 FR 11954, April 13, 1987 (43 CFR 426.22), Reclamation will publish notice of proposed or amendatory contract actions for any contract for the delivery of project water for authorized uses in newspapers of general circulation in the affected area at least 60 days prior to contract execution. Announcements may be in the form of news releases, legal notices, official letters, memorandums, or other forms of written material. Meetings, workshops, and/or hearings may also be used, as appropriate, to provide local publicity. The public participation procedures do not apply to proposed contracts for the sale of surplus or interim irrigation water for a term of 1 year or less. Either of the contracting parties may invite the public to observe contract proceedings. All public participation procedures will be coordinated with those involved in complying with the National Environmental Policy Act. Pursuant to the “Final Revised Public Participation Procedures” for water resource-related contract negotiations, published in 47 FR 7763, February 22, 1982, a tabulation is provided of all proposed contractual actions in each of the five Reclamation regions. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act, as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his or her designated public contact as they become available for review and comment.

7. In the event modifications are made in the form of a proposed contract, the appropriate regional director shall determine whether republication of the notice and/or extension of the comment period is necessary.

Factors considered in making such a determination shall include, but are not limited to, (i) the significance of the modification, and (ii) the degree of public interest which has been expressed over the course of the negotiations. At a minimum, the regional director will furnish revised contracts to all parties who requested the contract in response to the initial public notice.

Definitions of Abbreviations Used in the Reports

ARRA American Recovery and Reinvestment Act of 2009

BCP Boulder Canyon Project

Reclamation Bureau of Reclamation

CAP Central Arizona Project

CUP Central Utah Project

CVP Central Valley Project

C-BT Colorado-Big Thompson Project

CRSP Colorado River Storage Project

FR Federal Register

IDD Irrigation and Drainage District

ID Irrigation District

LCWSP Lower Colorado Water Supply Project

M&I Municipal and Industrial

NMISC New Mexico Interstate Stream Commission

O&M Operation and Maintenance

OM&R Operation, maintenance, and replacement

P-SMBP Pick-Sloan Missouri Basin Program

PPR Present Perfected Right

RRA Reclamation Reform Act of 1982

SOD Safety of Dams

SRPA Small Reclamation Projects Act of 1956

USACE U.S. Army Corps of Engineers

WD Water District

Pacific Northwest Region: Bureau of Reclamation, 1150 North Curtis Road, Suite 100, Boise, Idaho 83706-1234, telephone 208-378-5344.

The Pacific Northwest Region has no updates to report for this quarter.

Mid-Pacific Region: Bureau of Reclamation, 2800 Cottage Way, Sacramento, California 95825-1898, telephone 916-978-5250.

The Mid-Pacific Region has no updates to report for this quarter.

Lower Colorado Region: Bureau of Reclamation, P.O. Box 61470 (Nevada Highway and Park Street), Boulder City, Nevada 89006-1470, telephone 702-293-8192.

New contract actions:

26. San Carlos Apache Tribe and the Town of Gilbert, CAP, Arizona: Execute Amendment No. 4 to a CAP water lease to extend the term of the lease in order for the San Carlos Apache Tribe to lease 20,000 acre-feet of its CAP water to the Town of Gilbert during calendar year 2015.

27. Fort McDowell Yavapai Nation and the Town of Gilbert, CAP, Arizona: Execute Amendment No. 4 to a CAP water lease to extend the term of the lease in order for Fort McDowell Yavapai Nation to lease 13,933 acre-feet of its CAP water to the Town of Gilbert during calendar year 2015.

28. San Carlos Apache Tribe and the Pascua Yaqui Tribe, CAP, Arizona: Execute a CAP water lease in order for the San Carlos Apache Tribe to lease 2,000 acre-feet of its CAP water to the Pascua Yaqui Tribe during calendar year 2015.

Upper Colorado Region: Bureau of Reclamation, 125 South State Street, Room 6107, Salt Lake City, Utah 84138-1102, telephone 801-524-3864.

The Upper Colorado Region has no updates to report for this quarter.

Great Plains Region: Bureau of Reclamation, 2021 4th Avenue North, Billings, Montana 59101, telephone 406-247-7752.

New contract actions:

58. Canyon Ferry Unit, P-SMBP, Montana: Renewal of 20 various individual water service contracts for small amounts of irrigation and municipal water use.

59. Edwards Farms, Nebraska Bostwick, P-SMBP: Consideration of a long-term Warren Act Contract.

60. Larry TenBensel, Frenchman Cambridge, P-SMBP: Consideration of a long-term Warren Act Contract.

61. Dickinson-Heart River Mutual Aid Corporation; Dickinson Unit, Heart Division; P-SMBP; North Dakota: Consideration of amending the long-term irrigation water service contract to modify the acres irrigated.

Completed contract actions:

22. Grey Reef Ranch, LLC, Kendrick Project, Wyoming: Renewal of a long-term Warren Act contract. Contract executed July 11, 2014.

35. Twin Lakes Dam, Fryingpan-Arkansas Project: Consideration of a contract action for repayment of SOD costs. Contract executed July 29, 2014.

36. John and Donna Vandenacre, Canyon Ferry Unit, P-SMBP, Montana. Consideration of a request to renew a long-term water service contract for up to 562.5 acre-feet of water from storage in Canyon Ferry Reservoir. Contract executed July 18, 2014.

49. Frenchman-Cambridge Division, P-SMP; Nebraska: Consideration of a Warren Act contract(s) with an individual landowner. Contract executed June 2014.

51. Nebraska-Bostwick and Frenchman-Cambridge ID; Bostwick and Frenchman-Cambridge Divisions; P-SMBP: Consideration of a temporary assignment of water from Nebraska-Bostwick ID to Frenchman-Cambridge ID. Contract executed June 26, 2014.

Dated: September 22, 2014.
Roseann Gonzales,
Director, Policy and Administration.

[FR Doc. 2014-25738 Filed 10-28-14; 8:45 am]

BILLING CODE 4332-90-P